DEPARTMENT OF COMMERCE

Foreign-Trade Zones Board

[B-29-2024]

Foreign-Trade Zone (FTZ) 32; Authorization of Production Activity; J.J.C. International Distributors LLC dba Clar Company; (Galvanized Steel Products); Miami, Florida

On May 23, 2024, J.J.C. International Distributors LLC dba Clar Company submitted a notification of proposed production activity to the FTZ Board for its facility within FTZ 32, in Miami, Florida.

The notification was processed in accordance with the regulations of the FTZ Board (15 CFR part 400), including notice in the Federal Register inviting public comment (89 FR 47129, May 31, 2024). On September 20, 2024, the applicant was notified of the FTZ Board's decision that no further review of the activity is warranted at this time. The production activity described in the notification was authorized, subject to the FTZ Act and the FTZ Board's regulations, including section 400.14.

Dated: September 20, 2024.
Elizabeth Whiteman,
Executive Secretary.

[FR Doc. 2024-21970 Filed 9-25-24; 8:45 am]

BILLING CODE 3510-DS-P